DEPARTMENT OF THE INTERIOR

Fish and Wildlife Service

[FWS-R5-R-2008-N0191; BAC 4311-K9]

Wallkill River National Wildlife Refuge, Sussex, NJ

AGENCY: Fish and Wildlife Service, Interior.

ACTION: Notice of availability: final comprehensive conservation plan and finding of no significant impact for environmental assessment.

SUMMARY: We, the U.S. Fish and Wildlife Service (Service), announce the availability of our final comprehensive conservation plan (CCP) and finding of no significant impact (FONSI) for the environmental assessment (EA) for Wallkill River National Wildlife Refuge (NWR) in Sussex County, New Jersey. In that final CCP, we describe how we will manage this refuge for the next 15 years.

ADDRESSES: You may view or obtain copies of the final CCP and FONSI by any of the following methods. You may request a hard copy or CD-ROM.

Agency Web Site: Download a copy of the document(s) at http://library.fws.gov/ccps.htm.

E-mail: northeastplanning@fws.gov. Include the words “Wallkill River final CCP” in the subject line of your message.

U.S. Mail: Edward Henry, Refuge Manager, Wallkill River NWR, 1547 County Route 565, Sussex, New Jersey 07461.

In-Person Viewing or Pickup: Call Wallkill River NWR at 973-702-7266 to make an appointment during regular business hours at 1547 County Route 565, Sussex, New Jersey. The final document is also available at the library listed under SUPPLEMENTARY INFORMATION, below.

FOR FURTHER INFORMATION CONTACT: Beth Goldstein, Refuge Planner, by phone at 413-253-8564, or by electronic mail at Beth_Goldstein@fws.gov.

SUPPLEMENTARY INFORMATION:

Introduction

With this notice, we finalize the CCP process for Wallkill River NWR. We started that process by publishing a notice of intent in the Federal Register (64 FR 30; February 16, 1999). For more information about the process, see that notice. We announced the release of the draft CCP/EA to the public and requested their comments in a notice of availability in the Federal Register (73 FR 23; February 4, 2008).

Congress established the Wallkill River NWR by law on November 16, 1990, (Section 107 of H.R. 3338; Public Law 101-593) with the following purposes: (1) To preserve and enhance the refuge's lands and waters in a manner that will conserve the natural diversity of fish, wildlife, plants, and their habitats for present and future generations, (2) to conserve and enhance populations of fish, wildlife, and plants within the refuge, including populations of black ducks and other waterfowl, raptors, passerines, and marsh and water birds, (3) to protect and enhance the water quality of aquatic habitats within the refuge, (4) to fulfill international treaty obligation of the United States with respect to fish and wildlife and their habitats, and (5) to provide opportunities for compatible scientific research, environmental education, and fish and wildlife-oriented recreation (104 Stat. 2955).

The refuge's acquisition boundary is 7,500 acres, and stretches from Sussex County, New Jersey, to Orange County, New York. It is located along a 9-mile stretch of the Wallkill River, and lies in a rolling valley within the Appalachian Ridge and Valley physiographic province. The region's major wetlands are former glacial lake bottoms, and the lake's organic muck soils support extensive bottomland hardwood forests, wet meadows, and farm fields. Since establishing the refuge, we have acquired approximately 5,106 acres, and have focused primarily on conserving, restoring, and enhancing the natural diversity of fish, wildlife, and plants, and their habitats, along the Wallkill River. Refuge management activities include restoring wetlands, creating moist soil management units, maintaining grasslands, and providing opportunities for wildlife-dependent recreation.

We announce our decision and the availability of the FONSI and the final CCP for Wallkill River NWR in accordance with the requirements under the National Environmental Policy Act (NEPA) (40 CFR 1506.6(b)). We completed a thorough analysis of impacts on the human environment, which we included in the draft CCP/EA.

The CCP will guide us in managing and administering Wallkill River NWR for the next 15 years. Alternative B, which we describe in the draft CCP/EA as the Service-preferred alternative, is the foundation for the final CCP.

Background

The National Wildlife Refuge System Improvement Act of 1997 (16 U.S.C. 668dd-668ee; Improvement Act), which amends the National Wildlife Refuge System Administration Act of 1966, requires us to develop a CCP for each national wildlife refuge. The purpose for developing a CCP is to provide refuge managers with a 15-year plan for achieving refuge purposes and contributing to the mission of the National Wildlife Refuge System in a manner consistent with the sound principles of fish and wildlife management, conservation, legal mandates, and our policies. In addition to outlining broad management direction on conserving wildlife and their habitats, CCPs identify wildlife-dependent recreational opportunities available to the public, including opportunities for hunting, fishing, observing and photographing wildlife, and enjoying environmental education and interpretation. We will review and update the CCP at least every 15 years, in accordance with the Improvement Act.

CCP Alternatives, Including Alternative B, the Selected Alternative

Our draft CCP/EA (73 FR 23) identifies and addresses several issues in its chapter 1, “The Purpose of and Need for Action.” In that document, we developed three alternatives to respond to those issues. Alternative A represents current management. Alternative B focuses on managing for priority species and habitats. Alternative C proposes to establish and maintain the ecological integrity of natural communities on the refuge and surrounding landscape without specific emphasis or concern for any particular species or species groups. We identified alternative B as the Service-preferred alternative for several reasons. It includes an array of management actions that, in our professional judgment, work best toward achieving the purpose of the refuge, our vision and goals for those lands, and goals in state and regional conservation plans. In our opinion, alternative B most effectively addresses the key issues. We recommended alternative B to our Regional Director as the better alternative for managing this refuge over the next 15 years. He selected it for development into the final CCP.

The final CCP will expand the refuge's original acquisition boundary by 9,550 acres, creating a new refuge acquisition boundary of 17,050 acres total. We will acquire new lands from willing sellers through a combination of fee-simple and easement purchase. The expansion area includes four focus areas. The 7,079-acre Papakating Creek Focus Area is the largest, and encompasses a 15-mile tributary of the Wallkill River. All four focus areas have tremendous wetland resource values, and together they form a key corridor connecting preserved habitats on the Kittatinny Ridge to the west and the Hudson Highlands to the east. The expansion area will fully complement and enhance the Federal, State, and private conservation partnerships actively involved in protecting this unique ecosystem.

In the final CCP, we will allocate more resources toward managing and monitoring federal-listed species that now live or historically lived on the refuge. We will take a more proactive approach to restoring wetlands, and establish a 100-meter forested riparian corridor along either side of the Wallkill River. We will establish three grassland focus areas on the refuge, and let other small fields revert to scrub-shrub habitat.

We will open the part of the refuge in New Jersey to bear hunting according to State seasons, and provide at least one additional fishing access site within the original refuge acquisition boundary. We will increase access to Service-owned lands by opening at least two new trails and extending an existing trail. We will also develop new interpretive materials, and work with partners to expand our environmental education programs.

Comments

We solicited comments on the draft CCP/EA for Wallkill River NWR from February 4, 2008 to April 9, 2008. We held public meetings in Augusta, New Jersey, on February 20, 2008; in Wantage, New Jersey, on February 21, 2008; and in Warwick, New York, on March 6, 2008. We evaluated all comments received during the public comment period, and included them with our responses as appendix J of the final CCP.

Selected Alternative

After considering the comments we received, we have selected alternative B from the draft CCP/EA.

Public Availability of Documents

In addition to the methods in ADDRESSES above, you can view or obtain documents at the Sussex-Wantage Branch Library, 69 Route 639, Wantage, New Jersey 07461, during regular library hours.

Dated: December, 29, 2008.
Thomas J. Healy,
Acting Regional Director, U.S. Fish and Wildlife Service, Hadley, MA 01035.

[FR Doc. E9-3702 Filed 2-20-09; 8:45 am]

BILLING CODE 4310-55-P